DEPARTMENT OF ENERGY

Federal Energy Regulatory Commission

[Project No. 14462-000]

Ceresco Hydroelectric Dam, LLC; Notice of Preliminary Permit Application Accepted for Filing and Soliciting Comments, Motions To Intervene, and Competing Applications

On October 19, 2012, Ceresco Hydroelectric Dam, LLC, filed an application for a preliminary permit, pursuant to section 4(f) of the Federal Power Act (FPA), proposing to study the feasibility of the Ceresco Hydroelectric Project (Ceresco Project or project) to be located on Kalamazoo River, near Ceresco, Calhoun County, Michigan. The sole purpose of a preliminary permit, if issued, is to grant the permit holder priority to file a license application during the permit term. A preliminary permit does not authorize the permit holder to perform any land-disturbing activities or otherwise enter upon lands or waters owned by others without the owners' express permission.

From the right to the left embankment, the proposed project would consist of the following: (1) A 190-acre surface area, 2,000 acre-feet capacity reservoir at the proposed normal pool elevation of 876.8 feet National Geodetic Vertical Datum; (2) a dam comprised of (a) a 126-foot-wide, 13-foot-high straight drop stoplog spillway composed of six 20.5-foot-long bays; (b) a 51-foot-wide, 10-foot-high gated spillway composed of two 24-foot-wide vertical lift gates; (c) a 36-foot-wide needle embankment section; (d) a 130-foot-wide abandoned powerhouse; and (e) a 130-foot-wide earthen embankment; (3) a 500-kilowatt Very Low Head turbine to be installed just downstream of the two stoplog bays closest to the gated spillway; (4) a 400-foot-long, 480-volt transmission line connecting the project electrical control building on the needle embankment to the Consumers Energy substation on the left abutment; and (5) appurtenant facilities. The estimated annual generation of the Ceresco Project would be 2,500 megawatt-hours.

Applicant Contact: Mr. Daniel Busher, 110 Knapp Dr., Suite 114, Battle Creek, MI 49015; phone: (269) 288-2646.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14462) in the docket number field to access the document. For assistance, contact FERC Online Support.

Dated: January 18, 2013.
Kimberly D. Bose,
Secretary.

[FR Doc. 2013-01614 Filed 1-25-13; 8:45 am]

BILLING CODE 6717-01-P